DEPARTMENT OF DEFENSE

Office of the Secretary

[Transmittal Nos. 11-35]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 11-35 with attached transmittal and policy justification.

Dated: October 18, 2011.
Aaron Siegel,
Alternate OSD Federal Register Liaison Officer, Department of Defense.

Transmittal No. 11-35—Notice of Proposed Issuance of Letter of Offer Pursuant to Section 36(b)(1) of the Arms Export Control Act, as Amended

(i) Prospective Purchaser: Iraq.

(ii) Total Estimated Value:

| In millions
Major Defense Equipment* | $27
Other | 55
Total | 82

(iii) Description and Quantity or Quantities of Articles or Services under Consideration for Purchase: 44,608 M107 155mm High Explosive Projectiles and 9,328 M485A2 155mm Illumination projectiles; also included are, M231 Propelling charges, M232A1 155mm Modular Artillery Charge System Propelling charges, M739 Fuzes, M762A1 Electronic Time Fuzes, M82 Percussion primers, M767A1 Electronic Time Fuzes, 20-foot Intermodal Containers for transporting ammunition, publications and technical data, personnel training and training equipment, U.S. Government and contractor engineering, logistics, and technical support services, and other related elements of logistics support.

* As defined in Section 47(6) of the Arms Export Control Act.

(iv) Military Department: Army (UEL).

(v) Prior Related Cases, if any: None.

(vi) Sales Commission, Fee, etc., Paid, Offered, or Agreed to be Paid: None.

(vii) Sensitivity of Technology Contained in the Defense Article or Defense Services Proposed to be Sold: None.

(viii) Date Report Delivered to Congress: 5 October 2011.

Policy Justification—Iraq—Howitzer Ammunition

The Government of Iraq has requested a possible sale of 44,608 M107 155mm High Explosive Projectiles and 9,328 M485A2 155mm Illumination projectiles; also included are, M231 Propelling charges, M232A1 155mm Modular Artillery Charge System Propelling charges, M739 Fuzes, M762A1 Electronic Time Fuzes, M82 Percussion primers, M767A1 Electronic Time Fuzes, 20-foot Intermodal Containers for transporting ammunition, publications and technical data, personnel training and training equipment, U.S. Government and contractor engineering, logistics, and technical support services, and other related elements of logistics support. The estimated cost is $82 million.

This proposed sale will contribute to the foreign policy and national security of the United States by helping to improve the security of a friendly country. This proposed sale directly supports the Iraq government and serves the interests of the Iraqi people and the U.S.

The proposed sale will help Iraq's efforts to develop an integrated ground defense capability, a strong national defense, and dedicated military force. As the drawdown of coalition forces continues, the Iraqi military continues to develop a force capable of assuming the lead in providing for the security of the Iraqi people.

The proposed sale of this ammunition will not alter the basic military balance in the region.

The ammunition will be supplied from U.S. Army stock. There are no known offset agreements proposed in connection with this potential sale.

Implementation of this proposed sale will not require the assignment of any additional U.S. Government or contractor representatives to Iraq.

There will be no adverse impact on U.S. defense readiness as a result of this proposed sale.

[FR Doc. 2011-27354 Filed 10-21-11; 8:45 am]

BILLING CODE 5001-06-P